DEPARTMENT OF ENERGY

Federal Energy Regulatory Commission

[Project No. 9648-020]

One Hundred River Street, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 9648-020.

c. Date filed: June 28, 2024.

d. Applicant: One Hundred River Street, LLC (River Street).

e. Name of Project: Fellows Dam Hydroelectric Project.

f. Location: On the Black River, Windsor County, Vermont.

g. Filed Pursuant to: Federal Power Act 16 U.S.C. 791(a)-825(r).

h. Applicant Contact: Richard Genderson, One Hundred River Street, LLC, 300 Massachusetts Avenue NE, Washington, DC 20002; Phone at (202) 543-9300 or email rick@cellar.com.

i. FERC Contact: John Baummer at (202) 502-6837, or john.baummer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 27, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Fellows Dam Hydroelectric Project (P-9648-020).

m. The application is not ready for environmental analysis at this time.

n. The existing Fellows Dam Project consists of the following: (1) a 200-foot-long, 10-foot-high concrete dam (Fellows Dam) with a crest elevation of 435 feet mean sea level (msl); (2) an impoundment with a surface area of 21 acres and a storage capacity of 106 acre-feet at an elevation of 435 feet msl; (3) an intake structure equipped with an inclined trashrack with 1.5-inch clear bar spacing; (4) a 4-foot by 8-foot, 30-foot-long reinforced concrete open flume; (5) a powerhouse with a Francis turbine-generator unit with an authorized installed capacity of 150 kilowatts; (6) a 0.60 kilovolt (kV) generator lead; (7) a 0.60/4.16-kV transformer; (8) a 0.6-kV, 100-foot-long transmission line; and (9) appurtenant facilities.

The current license requires River Street to operate the project in a run-of-river mode and to release a minimum flow of 6 cubic feet per second (cfs) or inflow, whichever is less, over the spillway for the protection of fish and wildlife resources in the Black River. The project has an average annual generation of 500 megawatt-hours.

The current license also requires River Street to provide downstream fish passage at the project from April 1 to June 15. River Street operates a downstream fish passage facility consisting of a 36-inch-wide weir installed in the spillway adjacent to the existing trashrack, a fish collection box, and an 18-inch diameter steel sluice pipe that discharges to a natural plunge pool at the toe of the dam.

River Street proposes to continue operating the project in a run-of-river mode. River Street also proposes to: (1) increase the current year-round minimum flow release over the spillway from 0.5 inch (6 cfs) to 1 inch; (2) operate the existing downstream fish passage facility in the fall; and (3) develop a flow management, monitoring, and maintenance plan.

o. Copies of the application may be viewed on the Commission's website at http://www.ferc.gov using the “eLibrary” link. Enter the docket number excluding the last three digits in the docket number field to access the document (P-9648). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Milestone | Target date
Issue Deficiency Letter (if necessary) | August 2024.
Request Additional Information | August 2024.
Issue Acceptance Letter | January 2025.
Issue Scoping Document 1 for comments | January 2025.
Request Additional Information (if necessary) | March 2025.
Issue Scoping Document 2 (if necessary) | March 2025.

Final amendments to the application must be filed with the Commission no later than 30 days from the issuance date of the notice of ready for environmental analysis.

Dated: July 11, 2024.
Debbie-Anne A. Reese,
Acting Secretary.

[FR Doc. 2024-15734 Filed 7-16-24; 8:45 am]

BILLING CODE 6717-01-P